NATIONAL AERONAUTICS AND SPACE ADMINISTRATION

[14-019]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: All comments should be addressed to Frances Teel, National Aeronautics and Space Administration, Washington, DC 20546-0001.

FOR FURTHER INFORMATION CONTACT: Requests for additional information or copies of the information collection instrument(s) and instructions should be directed to Frances Teel, NASA PRA Officer, NASA Headquarters, 300 E Street SW., JF0000, Washington, DC 20546, (202) 358-2225.

SUPPLEMENTARY INFORMATION:

I. Abstract

The KEEP is a job shadowing program designed to provide students with career exploration opportunities under the mentorship of a NASA Kennedy Space Center (KSC) subject matter expert. Participation in the program is limited to students who are U.S. citizens and 16 years or older. Interested students will submit a job shadowing application package, which includes recommendations from two separate science, math, or technology teachers associated with their current school of enrollment and designation of their top three choices for the job shadowing experience to include but not limited to biomedical, chemistry, computer science, engineering, meteorology, and physics. Students may request a shadowing opportunity for a period of 1-5 days. This information collection renewal includes updates to the application package for clarity and comprehensibility.

II. Method of Collection

Paper.

III. Data

Title: Kennedy Educational Experiences program (KEEP).

OMB Number: 2700-0135.

Type of review: Renewal, with change, of currently approved information collection.

Affected Public: Individuals.

Estimated Number of Respondents: 60.

Estimated Total Annual Burden Hours: 30.6.

Estimated Total Annual Cost to Respondents: $15.00 per respondent.

IV. Request for Comments

Comments are invited on: (1) Whether the proposed collection of information is necessary for the proper performance of the functions of NASA, including whether the information collected has practical utility; (2) The accuracy of NASA's estimate of the burden (including hours and cost) of the proposed collection of information; (3) Ways to enhance the quality, utility, and clarity of the information to be collected; and (4) Ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-03590 Filed 2-18-14; 8:45 am]

BILLING CODE 7510-13-P